DEPARTMENT OF ENERGY

Federal Energy Regulatory Commission

[Docket No. ER02-2497-001, et al.]

Central Maine Power Company, et al.; Electric Rate and Corporate Regulation Filings

September 4, 2002.

The following filings have been made with the Commission. The filings are listed in ascending order within each docket classification.

1. Central Maine Power Company

[Docket No. ER02-2497-001]

Take notice that on August 29, 2002, Central Maine Power Company (CMP) submitted a correction to its filing dated August 26, 2002 regarding revisions to the Continuing Site/Interconnection Agreement (CSIA) by and between CMP and FPL Energy Maine, Inc., designated as FERC Electric Tariff, Fifth Revised, Volume No. 3, Original Service Agreement No. 158, First Revised. The correction consisted of the submission of page 29 (which was missing from the original filing) to the clean version of the revised filing.

Comment Date: September 19, 2002.

2. Tucson Electric Power Company

[Docket No. ER02-2508-000]

Take notice that on August 29, 2002, Tucson Electric Power Company tendered for filing one (1) Umbrella Service Agreement (for short-term firm service) and one (1) Service Agreement (for non-firm service) pursuant to Part II of Tucson's Open Access Transmission Tariff, which was filed in Docket No. ER01-208-000.

The details of the service agreements are as follows:

Umbrella Agreement for Short-Term Firm Point-to-Point Transmission Service dated as of August 21, 2002 by and between Tucson Electric Power Company and FPL Energy Power Marketing, Inc.—FERC Electric Tariff Vol. No. 2, Service Agreement No. 202. No service has commenced at this time.

Form of Service Agreement for Non-Firm Point-to Point Transmission Service dated as of August 21, 2002 by and between Tucson Electric Power Company and FPL Energy Power Marketing, Inc.—FERC Electric Tariff Vol. No. 2, Service Agreement No. 203. No service has commenced at this time.

Comment Date: September 19, 2002.

3. Wisvest-Connecticut, LLC

[Docket No. ER02-2514-000]

Take notice that on August 29, 2002, Wisvest-Connecticut, LLC (Wisvest), filed with the Federal Energy Regulatory Commission an “Installed Capability Purchase and Sale Agreement” between Bridgeport Energy LLC and Wisvest which is being filed pursuant to Wisvest's market-based rate tariff.

Comment Date: September 19, 2002.

4. Covanta Fairfax, Inc

[Docket No. ER02-2515-000]

Take notice that on August 29, 2002, Covanta Fairfax, Inc. (the Applicant), filed under Section 205 of the Federal Power Act, 16 U.S.C. 824d, Part 35 of the regulations of the Federal Energy Regulatory Commission (Commission), and Commission Order No. 614, a request that the Commission accept for filing an Amendment to the First Amendment and Restatement of Power Purchase and Operating Agreement Between Ogden Martin Systems of Fairfax, Inc. and Virginia Electric and Power Company dated December 1, 1996, which was accepted for filing by the Commission in Docket No. ER97-1562-000. The proposed Amendment amends certain provisions pertaining to scheduled outages and establishes a limited offset against capacity payments.

Comment Date: September 19, 2002.

5. Westar Energy, Inc.

[Docket No. ER02-2516-000]

Take notice that on August 29, 2002, Westar Energy, Inc., submitted for filing revised Order 614 compliant tariffs and contracts reflecting changes to incorporate the company's recent name change. The submitted contracts are proposed to be effective on June 19, 2002, the date of the official company name change.

A copy of this filing was served upon the Kansas Corporation Commission and the wholesale customers who take service under the aforementioned contracts.

Comment Date: September 19, 2002.

6. The Dayton Power and Light Company

[Docket No. ER02-2517-000]

Take notice that on August 29, 2002, The Dayton Power and Light Company (Dayton) submitted service agreements establishing Select Energy, Inc., as customers under the terms of Dayton's Open Access Transmission Tariff.

Dayton requests an effective date of one day subsequent to this filing for the service agreements. Accordingly, Dayton requests waiver of the Commission's notice requirements. Copies of this filing were served upon Select Energy, Inc., and the Public Utilities Commission of Ohio.

Comment Date: September 19, 2002.

7. The Dayton Power and Light Company

[Docket No. ER02-2518-000]

Take notice that on August 29, 2002, The Dayton Power and Light Company (Dayton) submitted service agreements establishing with Select Energy, Inc., as a customer under the terms of Dayton's Open Access Transmission Tariff.

Dayton request an effective date of one day subsequent to this filing for the service agreements. Accordingly, Dayton requests waiver of the Commission's notice requirements. Copies of this filing were served upon with Select Energy, Inc., and the Public Utilities Commission of Ohio.

Comment Date: September 19, 2002.

8. PJM Interconnection, L.L.C.

[Docket No. ER02-2519-000]

Take notice that on August 29, 2002, PJM Interconnection, L.L.C. (PJM), submitted for filing amendments to the Appendix of Attachment K of the PJM Open Access Transmission Tariff and Schedule 1 of the Amended and Restated Operating Agreement to establish a Spinning Reserve market for PJM and PJM West.

PJM requests an effective date of December 1, 2002 for the amendments. Copies of this filing were served upon all PJM members and each state electric utility regulatory commission in the PJM control area and PJM West region.

Comment Date: September 19, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-23155 Filed 9-11-02; 8:45 am]

BILLING CODE 6717-01-P